DEPARTMENT OF TRANSPORTATION

Federal Aviation Administration

14 CFR Part 39

[Docket No. 2000-NM-255-AD; Amendment 39-11850; AD 2000-15-51]

RIN 2120-AA64

Airworthiness Directives; Cessna Model 560XL Airplanes

AGENCY: Federal Aviation Administration, DOT.

ACTION: Final rule; request for comments.

SUMMARY: This document publishes in the Federal Register an amendment adopting airworthiness directive (AD) 2000-15-51 that was sent previously to all known U.S. owners and operators of Cessna Model 560XL airplanes by individual notices. This AD requires, for certain airplanes, repetitive inspections to measure the amount the aileron fairlead tube protrudes beyond the clamp at the aft aileron sector, and modification of the aileron fairlead tubes, which terminates the repetitive inspections to measure the tube protrusion; and, for all airplanes, repetitive general visual inspections, and corrective actions, if necessary, to ensure that the fairlead tube remains flush with the clamp. This action is prompted by reports of two occurrences of improper aileron function discovered during preflight checks. The actions specified by this AD are intended to prevent interference between the aileron cable fairlead tube and the aileron cable sector, which could result in loss of control of the airplane.

DATES: Effective August 14, 2000, to all persons except those persons to whom it was made immediately effective by emergency AD 2000-15-51, issued July 19, 2000, which contained the requirements of this amendment.

The incorporation by reference of certain publications listed in the regulations is approved by the Director of the Federal Register as of August 14, 2000.

Comments for inclusion in the Rules Docket must be received on or before October 10, 2000.

ADDRESSES: Submit comments in triplicate to the Federal Aviation Administration (FAA), Transport Airplane Directorate, ANM-114, Attention: Rules Docket No. 2000-NM-255-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-255-AD” in the subject line and need not be submitted in triplicate. Comments sent via the Internet as attached electronic files must be formatted in Microsoft Word 97 for Windows or ASCII text.

The applicable service information may be obtained from Cessna Aircraft Co., P.O. Box 7706, Wichita, Kansas 67277. This information may be examined at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Shane Bertish, Aerospace Engineer, Systems and Propulsion Branch, ACE-116W, FAA, Wichita Aircraft Certification Office, 1801 Airport Road, Room 100, Mid-Continent Airport, Wichita, Kansas 67209; telephone (316) 946-4156; fax (316) 946-4407.

SUPPLEMENTARY INFORMATION: On July 19, 2000, the FAA issued emergency AD 2000-15-51, which is applicable to certain Cessna Model 560XL airplanes.

That action was prompted by reports of two occurrences of improper aileron function discovered during preflight checks. In the first occurrence, the ailerons did not operate within their full range; it was later discovered that the fairlead tube was contacting the aft cable sector. In the second occurrence, the aileron jammed in a ratcheting-type motion and could not be returned to neutral.

If either aileron cable fairlead tube slides aft through its clamps while the airplane is in service, it could jam or otherwise interfere with the aileron cable sector at approximately 60 percent aileron travel (either left roll or right roll). The aileron cannot be returned to neutral from 60 percent or greater aileron travel. This condition can occur only if 60 percent or greater aileron travel is commanded. In certain circumstances, roughness or unusual friction may be detected in the aileron system at high control wheel deflections prior to jamming. Interference between the aileron cable fairlead tube and the aileron cable sector, if not corrected, could result in loss of control of the airplane.

Explanation of Relevant Service Information

The FAA has reviewed and approved Cessna Service Bulletin SB560XL-27-10, including Service Bulletin Supplemental Data, dated July 13, 2000, which describes procedures for modification of the aileron fairlead tubes. The modification involves trimming the fairlead tube and cementing the clamp to the tube with fuel tank sealer.

Explanation of Requirements of the Rule

Since the unsafe condition described is likely to exist or develop on other airplanes of the same type design, the FAA issued emergency AD 2000-15-51 to prevent interference between the aileron cable fairlead tube and the aileron cable sector, if not corrected, could result in loss of control of the airplane. The AD requires:

• For airplanes having serial numbers -5002 through -5093 inclusive: repetitive general visual inspections to measure the amount the aileron fairlead tube protrudes beyond the clamp at the aft aileron sector.

• For airplanes having serial numbers -5002 through -5093 inclusive: modification of the aileron fairlead tubes, which terminates the repetitive inspections to measure the tube protrusion.

• For all airplanes: repetitive general visual inspections, and corrective actions, if necessary, to ensure that the fairlead tube remains flush with the clamp.

The modification is required to be accomplished in accordance with the service bulletin previously described.

Since it was found that immediate corrective action was required, notice and opportunity for prior public comment thereon were impracticable and contrary to the public interest, and good cause existed to make the AD effective immediately by individual notices issued on July 19, 2000, to all known U.S. owners and operators of Cessna Model 560XL airplanes. These conditions still exist, and the AD is hereby published in the Federal Register as an amendment to section 39.13 of the Federal Aviation Regulations (14 CFR 39.13) to make it effective to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-255-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-15-51 Cessna Aircraft Company: Amendment 39-11850. Docket 2000-NM-255-AD.

Applicability: Model 560XL airplanes, certificated in any category; serial numbers (S/N) -5002 and subsequent.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent interference between the aileron cable fairlead tube and the aileron cable sector, which could result in loss of control of the airplane, accomplish the following:

Pre-modification Inspection

(a) For airplanes having S/N -5002 through -5093 inclusive: Before the next flight after the effective date of this AD, perform a general visual inspection to measure how far the aileron fairlead tube protrudes beyond the clamp at the aft aileron sector. This area of the airplane is depicted in Figure 1 of Cessna Service Bulletin SB560XL-27-10, including Service Bulletin Supplemental Data, dated July 13, 2000. Thereafter, repeat the inspection at intervals not to exceed 5 flight cycles until accomplishment of paragraph (b) of this AD. If, during any inspection required by this paragraph, more than one-half inch of the tube is found to protrude, prior to further flight, accomplish the actions specified by paragraph (b) of this AD.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Modification

(b) For airplanes having S/N -5002 through -5093 inclusive: Within 25 flight hours or 30 days after the effective date of this AD, whichever occurs first, modify the aileron fairlead tubes (including trimming the fairlead tube and cementing the clamp to the tube with fuel tank sealer) in accordance with Cessna Service Bulletin SB560XL-27-10, including Service Bulletin Supplemental Data, dated July 13, 2000. Allow 2 hours of cure time before further flight. Accomplishment of the modification terminates the repetitive inspection requirement of paragraph (a) of this AD.

Post-modification Inspection

(c) For all airplanes: At the applicable time specified by paragraph (c)(1) or (c)(2) of this AD, perform a general visual inspection to determine if the fairlead tube is flush with the clamp. This area of the airplane is depicted in Figure 1 of Cessna Service Bulletin SB560XL-27-10, including Service Bulletin Supplemental Data, dated July 13, 2000. If the tube is not flush, prior to further flight, repeat the actions specified by paragraph (b) of this AD, and notify the Manager, Wichita Aircraft Certification Office (ACO), FAA, Mid-Continent Airport, 1801 Airport Road, Room 100, Wichita, Kansas 67209; telephone (316) 946-4106; fax (316) 946-4407. Repeat the inspection thereafter at intervals not to exceed 110 flight hours.

(1) For airplanes having S/N -5002 through -5093 inclusive: At the next scheduled maintenance or within 110 flight hours after the modification required by paragraph (b) of this AD, whichever occurs first.

(2) For S/N -5094 and subsequent: At the next scheduled maintenance or within 110 flight hours after the effective date of this AD, whichever occurs first.

Alternative Methods of Compliance

(d) An alternative method of compliance or adjustment of the compliance time that provides an acceptable level of safety may be used if approved by the Manager, Wichita ACO. Operators shall submit their requests through an appropriate FAA Principal Maintenance Inspector, who may add comments and then send it to the Manager, Wichita ACO.

Note 3: Information concerning the existence of approved alternative methods of compliance with this AD, if any, may be obtained from the Wichita ACO.

Special Flight Permits

(e) Special flight permits may be issued in accordance with §§ 21.197 and 21.199 of the Federal Aviation Regulations (14 CFR 21.197 and 21.199) to operate the airplane to a location where the requirements of this AD can be accomplished.

Incorporation by Reference

(f) The modification shall be done in accordance with Cessna Service Bulletin SB560XL-27-10, including Service Bulletin Supplemental Data, dated July 13, 2000. This incorporation by reference was approved by the Director of the Federal Register in accordance with 5 U.S.C. 552(a) and 1 CFR part 51. Copies may be obtained from Cessna Aircraft Co., P.O. Box 7706, Wichita, Kansas 67277. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

(g) This amendment becomes effective on August 14, 2000, to all persons except those persons to whom it was made immediately effective by emergency AD 2000-15-51, issued on July 19, 2000, which contained the requirements of this amendment.

Issued in Renton, Washington, on July 31, 2000.
Donald L. Riggin,
Acting Manager, Transport Airplane Directorate, Aircraft Certification Service.

[FR Doc. 00-19818 Filed 8-7-00; 8:45 am]

BILLING CODE 4910-13-U